ENVIRONMENTAL PROTECTION AGENCY

[EPA-R08-OAR-2012-0479; FRL-9943-51-OEI]

Information Collection Request Submitted to OMB for Review and Approval; Comment Request; Federal Implementation Plan for Oil and Natural Gas Well Production Facilities; Fort Berthold Indian Reservation (Mandan, Hidatsa, and Arikara Nation), North Dakota (Renewal)

AGENCY: Environmental Protection Agency (EPA).

ACTION: Notice.

SUMMARY: The Environmental Protection Agency has submitted an information collection request (ICR), “Federal Implementation Plan for Oil and Natural Gas Well Production Facilities; Fort Berthold Indian Reservation (Mandan, Hidatsa, and Arikara Nation), North Dakota (Renewal)” (EPA ICR No. 2478.02, OMB Control No. 2008-0001) to the Office of Management and Budget (OMB) for review and approval in accordance with the Paperwork Reduction Act (44 U.S.C. 3501 et seq.). This is a proposed extension of the ICR, which is currently approved through April 30, 2016. Public comments were previously requested via the Federal Register (80 FR 70200) on November 13, 2015 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before April 13, 2016.

ADDRESSES: Submit your comments, referencing Docket ID Number EPA-R08-OAR-2012-0479, to (1) EPA online using www.regulations.gov (our preferred method), by email to oei.docket@epa.gov, or by mail to: EPA Docket Center, Environmental Protection Agency, Mail Code 28221T, 1200 Pennsylvania Ave., NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Deirdre Rothery, U.S. Environmental Protection Agency, Region 8, Air Program, Mail Code 8P-AR, 1595 Wynkoop Street, Denver, CO 80202-1129; telephone number: (303) 312-6431; fax number: (303) 312-6064; email address: rothery.deirdre@epa.gov.

SUPPLEMENTARY INFORMATION: Supporting documents which explain in detail the information that the EPA will be collecting are available in the public docket for this ICR. The docket can be viewed online at www.regulations.gov or in person at the EPA Docket Center, WJC West, Room 3334, 1301 Constitution Ave., NW., Washington, DC. The telephone number for the Docket Center is 202-566-1744. For additional information about EPA's public docket, visit http://www.epa.gov/dockets.

Abstract: This ICR covers information collection requirements in the final Federal Implementation Plan (FIP) for Oil and Natural Gas Well Production Facilities; Fort Berthold Indian Reservation (Mandan, Hidatsa, and Arikara Nation), North Dakota (40 CFR part 49, subpart K, §§ 49.4161 through 49.4168), herein referred to as the FBIR FIP. In general, owners or operators are required to: (1) Conduct certain monitoring; (2) keep specific records to be made available at the EPA's request; and (3) to prepare and submit an annual report (40 CFR part 49, subpart K, §§ 49.4166 through 49.4168). These records and reports are necessary for the EPA Administrator (or the tribal agency if delegated), for example, to: (1) Confirm compliance status of stationary sources; (2) identify any stationary sources not subject to the requirements and identify stationary sources subject to the regulations; and (3) ensure that the stationary source control requirements are being achieved. All information submitted to us pursuant to the recordkeeping and reporting requirements for which a claim of confidentiality is made is safeguarded according to the agency policies set forth in 40 CFR part 2, subpart B.

Form Numbers: None.

Respondents/affected entities: Owners or operators of oil and natural gas facilities.

Respondent's obligation to respond:

Estimated Number of Respondents: 2,778 (total).

Frequency of Response: On occasion, annually.

Total estimated burden: 44,461 hours (per year). Burden is defined at 5 CFR 1320.03(b).

Total estimated cost: $10,029,408 (per year), includes $7,845,072 annualized capital or operation & maintenance costs.

Changes in the Estimates: There is an increase of 14,806 hours in the total estimated respondent burden compared with the ICR currently approved by OMB. This increase is due to the anticipated industry growth projected to occur over the next three year period of this ICR.

Courtney Kerwin,
Acting Director, Collection Strategies Division.

[FR Doc. 2016-05647 Filed 3-11-16; 8:45 am]

BILLING CODE 6560-50-P